DEPARTMENT OF THE INTERIOR

Bureau of Land Management

[LLAK-963000-L1410000-FQ0000; F-08649]

Public Land Order No. 7806; Partial Revocation of Secretarial Order Dated September 24, 1942; Alaska

AGENCY: Bureau of Land Management, Interior.

ACTION: Public Land Order.

SUMMARY: This order revokes a Secretarial Order insofar as it affects approximately 1,905 acres of public lands withdrawn on behalf of the Federal Aviation Administration for Air Navigation Site No. 189 at Farewell, Alaska. The Federal Aviation Administration no longer needs the lands for air navigation purposes.

DATES: Effective Date: November 26, 2012.

FOR FURTHER INFORMATION CONTACT: Robert L. Lloyd, BLM Alaska State Office, 222 W. Seventh Avenue, #13, Anchorage, AK 99513, 907-271-4682. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Federal Aviation Administration has determined that approximately 1,905 acres of Air Navigation Site No. 189 is excess to its needs and has requested a partial revocation of the withdrawal. Upon revocation, the State of Alaska selection applications made under the Alaska Statehood Act and the Alaska National Interest Lands Conservation Act become effective without further action by the State. While the land remains in Federal ownership, there is no significant restriction on subsistence uses. If the lands are ultimately conveyed to the State of Alaska pursuant to the Alaska Statehood Act, that conveyance will not result in a significant restriction on subsistence. Even if any such restriction would result upon conveyance of the land to the State, conveyance of the land is authorized by Section 810(c) of the Alaska National Interest Lands Conservation Act.

Order

By virtue of the authority vested in the Secretary of the Interior by Section 204 of the Federal Land Policy and Management Act of 1976, 43 U.S.C. 1714, it is ordered as follows:

1. The Secretarial Order dated September 24, 1942, which withdrew public lands and reserved them on behalf of the Federal Aviation Administration for Air Navigation Site No. 189, is hereby revoked only insofar as it affects the following described land:

Seward Meridian, Alaska

T. 28 N., R. 25 W., more particularly described as follows:

Parcel A, a portion of U.S. Survey No. 2640, Alaska, is described as follows: Beginning at corner No. 1, U.S. Survey No. 2640; thence along a portion of line 1-4, S. 14°21′59″ W., a distance of 2,765.52 feet, to a point not monumented; thence N. 75°53′00″ W., a distance of 18,479.03 feet to a point on line 3-2, not monumented; thence along a portion of line 3-2, N. 14°20′30″ E., a distance of 2,846.73 feet to corner No. 2; thence along line 2-1, S. 75°37′54″ E., a distance of 18,480.13 feet to corner No. 1, the point of beginning, containing 1190.44 acres more or less.

Parcel B, a portion of U.S. Survey No. 5408, Alaska, is described as follows:

Beginning at corner No. 6, Lot 1, U. S. Survey No. 2640, on line 4-1, U.S. Survey No. 5408; thence along a portion of said line 4-1, S. 75°38′58″ E., a distance of 2,639.78 feet, to corner No. 1; thence along line 1-2, S. 14°23′28″ W., a distance of 5,939.45 feet, to corner No. 2; thence along line 2-3, N. 75°36′00″ W., a distance of 5,940.00 feet to corner No. 3; thence along a portion of line 3-4, N. 14°24′03″ E., a distance of 4,675.46 feet to a point not monumented; thence S. 75°35′54″ E., a distance of 3,295.12 feet, to a point not monumented; thence N. 14°35′22″ E., a distance of 1,261.78 feet to corner No. 6, Lot 1, U. S. Survey No. 2640, the point of beginning, containing 714.11 acres more or less.

The total area described contains approximately 1,905 acres, more or less, at Farewell, Alaska.

2. The State of Alaska applications for selection made under Section 6(a) of the Alaska Statehood Act of July 7, 1958, 48 U.S.C. note prec. 21 and under Section 906(e) of the Alaska National Interest Lands Conservation Act, 43 U.S.C. 1635(e) become effective without further action by the State upon publication of this Public Land Order in the Federal Register, if such land is otherwise available. Land selected by, but not conveyed to, the State will be subject to Public Land Order No. 5186, (37 FR 5589 (1972)), as amended, and any other withdrawal or segregation of record.

Dated: October 25, 2012.
Rhea S. Suh,
Assistant Secretary—Policy, Management and Budget.

[FR Doc. 2012-28643 Filed 11-23-12; 8:45 am]

BILLING CODE 4310-JA-P